DEPARTMENT OF JUSTICE

United States and the State of Indiana v. Guide Corp. and Crown E.G., Inc.; Notice of Lodging of Consent Decree Pursuant to the Clean Water Act, the Resource Conservation and Recovery Act, the Emergency Planning and Community Right-to-Know Act, and the Comprehensive Environmental Response, Compensation, and Liability Act

In accordance with Departmental policy and 28 CFR 50.7, the Department of Justice gives notice that a proposed consent decree with Guide Corporation (“Guide”) in the case captioned United States and the State of Indiana v. Guide Corporation and Crown EG, Ind., Civil Action No. IP00-0702-C-D/F (S.D. Ind.) was lodged with the United States District Court for the Southern District of Indiana on June 18, 2001. The proposed consent decree relates to a massive fish kill that occurred in the White River in December 1999 and January 2000, from the City of Anderson, Indiana downstream past the City of Indianapolis, Indiana. Guide operates an automotive lighting parts production facility in Anderson, Indiana (the “Anderson Facility”), and is alleged to have discharged industrial wastewater from the Anderson Facility that caused the fish kill.

The proposed consent decree would resolve civil claims of the United States and the State of Indiana against Guide under: (1) The Clean Water Act (the “CWA”), 33 U.S.C. 1251 et seq., and corresponding state law; (2) the Resource Conservation and Recovery Act (“RCRA”), 42 U.S.C. 6901 et seq., and corresponding state law; (3) the release reporting provisions of Section 103 of the Comprehensive Environmental Response, Compensation, and Liability Act, (“CERCLA”), 42 U.S.C. 9603, and section 304 of the Emergency Planning and Community Right-to-Know Act (“EPCRA”), 42 U.S.C. 11004; (4) the natural resource damage provisions of CERCLA Section 107, CWA Section 311(f), and corresponding state law; (5) the response cost recovery provisions of CERCLA Section 107 and corresponding state law; and (6) state common law. To the extent provided by the proposed consent decree, certain specified benefits of the settlement would also extend to four non-defendants, as Additional Covered Persons, namely: Lightsource Parent Corporation (Guide's parent corporation), Vehicle Lighting, Inc. (the parent corporation of Lightsource Parent Corporation), Guide Indiana, LLC (a Guide affiliate and the Anderson Facility's lessee), and General Motors Corporation (the owner of the Anderson Facility).

As required by the proposed consent decree, Guide already has paid $10,025,000 into a Court Registry Account administered by United States District Court for the Southern District of Indiana. If the proposed consent decree is approved and entered by the Court, that $10,025,000 could be disbursed from the Court Registry Account and divided as follows: (1) $2,000,000 in civil penalties would be split evenly between the United States and the State; (2) $2,000,000 in CERCLA response costs and natural resource damage assessment costs would be paid to the State; (3) $25,000 in natural resource damage assessment costs would be paid to the U.S. Department of the Interior; and (4) $6,000,000 would be paid into two “White River Restoration Funds” to be established by the State, to fund fish restocking and river restoration projects.

The proposed consent decree also would require that Guide complete a RCRA Compliance Audit Program, designed to ensure that waste materials are not being improperly stored in pipes, equipment, tanks, sumps, and trenches in specified areas at the Anderson Facility. After completing the Compliance Audit Program, Guide would be required to submit a comprehensive Compliance Audit Report to the U.S. Environmental Protection Agency and the Indiana Department of Environmental Management.

For a period of thirty (30) days from the date of this publication, the Department of Justice will receive comments relating to the proposed consent decree. Comments should be addressed to the Assistant Attorney General, Environment and Natural Resources Division, United States Department of Justice, PO Box 7611, Washington, DC 20044-7611, and should refer to United States and the State of Indiana v. Guide Corporation and Crown EG, Inc., Civil Action No. IP00-0702-C-D/F (S.D. Ind.), and DOJ Reference Numbers 90-5-2-1-07043 and 90-5-2-1-07043/1.

An electronic copy of the proposed consent decree is posted on the Indiana Department of Environmental Management's website at www.IN.gov/idem/macs/factsheets/whiteriver. A signed copy of the proposed consent decree, including all appendices, may be examined at: (1) The Office of the United States Attorney for the Southern District of Indiana, 10 West market Street, Suite 2100, Indianapolis, Indiana 46204 (contact Thomas E. Kieper (317-226-6333)); and (2) the United States Environmental Protection Agency (Region 5), 77 West Jackson Boulevard, Chicago, Illinois 60604 (contact Nicole Cantello (312-886-2870)). Copies of the proposed consent decree may also be obtained by mail from the Department of Justice Consent Decree Library, PO Box 7611, Washington, DC 20044-7611. In requesting copies, please refer to the above-referenced case name and DOJ Reference Numbers, and enclose a check made payable to the Consent Decree Library for $18.75 (75 pages at 25 cents pre page reproduction cost).

William D. Brighton,
Assistant Chief, Environmental Enforcement Section, Environment and Natural Resources Division.

[FR Doc. 01-16823 Filed 7-3-01; 8:45 am]

BILLING CODE 4410-15-M